DEPARTMENT OF COMMERCE

National Institute of Standards and Technology

Agency Information Collection Activities; Submission to the Office of Management and Budget (OMB) for Review and Approval; Comment Request; NIST Generic Clearance for Diversity, Equity, Inclusion, and Accessibility (DEIA) Data Collections

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on October 21, 2022, during a 60-day comment period. This notice allows for an additional 30 days for public comments.

Agency: National Institute of Standards and Technology (NIST), Commerce.

Title: NIST Generic Clearance for Diversity, Equity, Inclusion, and Accessibility (DEIA) Data Collections.

OMB Control Number: 0693-XXXX.

Form Number(s): None.

Type of Request: Regular.

Number of Respondents: 30,000.

Average Hours per Response: Varies, dependent upon the data collection method.

Burden Hours: 15,000.

Needs and Uses: Executive Orders 14035 and 13985 have tasked the Federal Government with advancing equity within the Federal Government workforce (E.O. 14035) and advancing racial equity and support for underserved communities through the Federal Government (E.O. 13985). Data collection, monitoring, and feedback are key elements of the Federal Government approach to integrating diversity, equity, inclusion, and accessibility (DEIA) in all ways of working. Executive Order 14035 on “Diversity, Equity, Inclusion, and Accessibility in the Federal Workforce,” released on June 25, 2021, calls for a data-driven, whole-of-government approach to cultivating DEIA across the Federal Government, asking agencies to “identify areas where evidence is lacking and propose opportunities to build evidence to advance diversity, equity, inclusion, and accessibility and address those gaps identified.” Executive Order 13985 on “Advancing Racial Equity and Support for Underserved Communities Through the Federal Government,” released on January 25, 2021, charges agencies with advancing equitable service delivery through increased engagement with underserved communities and improved data collection to “measure equity and capture the diversity of the American people.” This generic clearance will provide NIST with the tools necessary to carry out this endeavor.

Affected Public: Federal government; households and individuals; the private sector.

Frequency: Varies, depending on collection.

Respondent's Obligation: Select from the following options: Voluntary.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Chief Information Officer, Commerce Department.

[FR Doc. 2023-00988 Filed 1-18-23; 8:45 am]

BILLING CODE 3510-13-P